DEPARTMENT OF THE TREASURY

Office of Financial Stability; Proposed Collection; Comment Request

AGENCY: Office of Financial Stability (OFS), Treasury.

ACTION: Notice and request for comments.

SUMMARY: The Department of the Treasury, as part of its continuing effort to reduce paperwork and respondent burden, invites the general public and other Federal agencies to take this opportunity to comment on the following proposed and/or continuing information collections, as required by the Paperwork Reduction Act of 1995, Public Law 104-13 (44 U.S.C. 3506(c)(2)(A)). Currently, OFS is soliciting comments concerning information collection requirements contained in Title 31 CFR parts 30 and 31.

DATES: Written comments should be received on or before September 14, 2010 to be assured of consideration.

ADDRESSES: Direct all written comments to: Department of the Treasury, Daniel Abramowitz, 1500 Pennsylvania Avenue, NW., Washington, DC 20220; (202) 927-9645.

FOR FURTHER INFORMATION CONTACT: Requests for additional information or copies should be directed to the address above.

SUPPLEMENTARY INFORMATION: OMB Control Number: 1505-0209.

Title: Troubled Asset Relief Program—Conflicts of Interest.

Abstract: Authorized under the Emergency Economic Stabilization Act (EESA) of 2008 (Pub. L. 110-343), as amended by the American Recovery and Reinvestment Act (ARRA) of 2009, the Department of the Treasury has implemented aspects of the Troubled Asset Relief Program (TARP) by codifying section 108 of EESA. Title 31 CFR part 31, TARP Conflict of Interest, sets forth the process for reviewing and addressing actual or potential conflicts of interest among any individuals or entities seeking or having a contract or financial agency agreement with the Treasury for services under EESA. The information collection required by this part will be used to evaluate and minimize real and apparent conflicts of interest related to contractual or financial agent agreement services performed under TARP.

Type of Review: Revision of a currently approved information collection.

Affected Public: Private sector: Businesses or other for-profits.

Estimated Number of Respondents: 35.

Estimated Number of Responses: 418.

Estimated Total Annual Burden Hours: 3,446 hours.

OMB Control Number: 1505-0219.

Title: TARP Capital Purchase Program—Executive Compensation

Abstract: Authorized under the Emergency Economic Stabilization Act (EESA) of 2008 (Pub. L. 110-343), as amended by the American Recovery and Reinvestment Act (ARRA) of 2009, the Department of the Treasury has implemented aspects of the Troubled Asset Relief Program (TARP) by codifying section 111 of EESA. Title 31 CFR part 30, TARP Standards for Compensation Corporate Governance, provides guidance on the executive compensation and corporate governance provision of EESA that apply to entities that receive financial assistance under TARP. The collection of information required by this part will be used to monitor compliance with the executive compensation requirements; monitor and evaluate the compensation practices of TARP recipients, and as a basis for determinations on the compensation structures and compensation payments by the Special Master on Executive Compensation.

Type of Review: Revision of a currently approved information collection.

Affected Public: Private sector: Businesses or other for-profits.

Estimated Number of Respondents: 650.

Estimated Number of Responses: 3,083.

Estimated Total Annual Burden Hours: 11,130 hours.

Comments are invited on: (a) Whether the collection of information is necessary for the proper performance of the functions of the agency, including whether the information shall have practical utility; (b) the accuracy of the agency's estimate of the burden of the collection of information including the validity of the methodology and assumption used; (c) ways to enhance the quality, utility, and clarity of the information to be collected; (d) ways to minimize the burden of the collection of information on respondents, including through the use of automated collection techniques or other forms of information technology; and (e) estimates of capital or start-up costs and costs of operation, maintenance, and purchase of services to provide information.

Comments submitted in response to this notice will be summarized and included in the request for OMB approval. All comments will become a matter of public record.

Dated: June 30, 2010.
Daniel Abramowitz,
Office of Financial Stability PRA Program Officer.

[FR Doc. 2010-17399 Filed 7-15-10; 8:45 am]

BILLING CODE 4810-25-P